COMMISSION ON CIVIL RIGHTS

Notice of Public Meetings of the Ohio Advisory Committee

AGENCY: U.S. Commission on Civil Rights.

ACTION: Announcement of meeting.

SUMMARY: Notice is hereby given, pursuant to the provisions of the rules and regulations of the U.S. Commission on Civil Rights (Commission) and the Federal Advisory Committee Act that the Ohio Advisory Committee (Committee) will hold public meetings on Friday, April 13, 2018, at 10:00 a.m. EDT; and on Monday May 14th at 11:00 a.m. EDT, for the purpose of discussing voting rights in Ohio.

DATES: The meetings will be held on:

• Friday, April 13, 2018 at 10:00 a.m. EDT

• Monday May 14, 2018 at 11:00 a.m. EDT

ADDRESSES: Public call information: Dial: 877-719-9795, Conference ID: 1067599.

FOR FURTHER INFORMATION CONTACT: Melissa Wojnaroski, DFO, at mwojnaroski@usccr.gov or 312-353-8311.

SUPPLEMENTARY INFORMATION: Members of the public can listen to these discussions. The meetings are available to the public through the toll-free call-in number listed above. Any interested member of the public may call this number and listen to the meetings. An open comment period will be provided during each meeting to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be mailed to the Midwestern Regional Office, U.S. Commission on Civil Rights, 55 W. Monroe St., Suite 410, Chicago, IL 60615. They may also be faxed to the Commission at (312) 353-8324, or emailed to Carolyn Allen at callen@usccr.gov. Persons who desire additional information may contact the Midwestern Regional Office at (312) 353-8311.

Records generated from these meetings may be inspected and reproduced at the Midwestern Regional Office, as they become available, both before and after the meetings. Records of the meetings will be available via www.facadatabase.gov under the Commission on Civil Rights, Ohio Advisory Committee link (https://facadatabase.gov/committee/meetings.aspx?cid=268). Select “meeting details” and “documents” to download. Persons interested in the work of this Committee are directed to the Commission's website, http://www.usccr.gov, or may contact the Midwestern Regional Office at the above email or street address.

Agenda

Welcome and Introductions

Project Discussion: “Civil Rights and Voting in Ohio”

Public Comment

Future Plans and Actions

Adjournment

Dated: March 26, 2018.
David Mussatt,
Supervisory Chief, Regional Programs Unit.

[FR Doc. 2018-06353 Filed 3-28-18; 8:45 am]

BILLING CODE P